DEPARTMENT OF STATE

[Delegation of Authority No. 556]

Delegation of Authority Appointment of Members to Certain Committees Compact of Free Association

By virtue of the authority vested the Secretary of State by the laws of the United States, including 22 U.S.C. 2651a, I hereby delegate to the Assistant Secretary for East Asian and Pacific Affairs, to the extent authorized by law, the authority to appoint one member each to the Federated States of Micronesia (FSM) Joint Trust Fund Committee, the Republic of the Marshall Islands (RMI) Trust Fund Committee, the FSM Joint Economic Management Committee, and the RMI Joint Economic Management and Financial Accountability Committee, pursuant to sections 205 and 206 of the Compact of Free Association Amendments Act of 2024 (Div. G, Title II, Pub. L. 118-42).

Provided that, the appointments to the FSM Joint Economic Management Committee and the RMI Joint Economic Management and Financial Accountability Committee will be after consultation with the Secretary of the Treasury.

The Secretary of State, the Deputy Secretary of State, the Deputy Secretary of State for Management and Resources, and the Under Secretary for Political Affairs may exercise any function or authority delegated by this delegation. This delegation of authority does not rescind or modify any other delegation of authority.

This document shall be published in the Federal Register.

Dated: April 30, 2024.
Antony J. Blinken,
Secretary of State.

[FR Doc. 2024-10407 Filed 5-10-24; 8:45 am]

BILLING CODE 4710-30-P